DEPARTMENT OF THE INTERIOR

National Park Service

[NPS-WASO-NAGPRA-NPS0040403; PPWOCRADN0-PCU00RP14.R50000]

Notice of Intended Repatriation: Fine Arts Museums of San Francisco, San Francisco, CA

AGENCY: National Park Service, Interior.

ACTION: Notice.

SUMMARY: In accordance with the Native American Graves Protection and Repatriation Act (NAGPRA), the Fine Arts Museums of San Francisco (FAMSF) intends to repatriate certain cultural items that meet the definition of objects of cultural patrimony and that have a cultural affiliation with the Indian Tribes or Native Hawaiian organizations in this notice.

DATES: Repatriation of the cultural items in this notice may occur on or after July 17, 2025.

ADDRESSES: Send additional, written requests for repatriation of the cultural items in this notice to Christina Hellmich, Fine Arts Museums of San Francisco, 50 Hagiwara Tea Garden Drive, San Francisco, CA 94118, email chellmich@famsf.org.

SUPPLEMENTARY INFORMATION: This notice is published as part of the National Park Service's administrative responsibilities under NAGPRA. The determinations in this notice are the sole responsibility of FAMSF and additional information on the determinations in this notice, including the results of consultation, can be found in the summary or related records. The National Park Service is not responsible for the determinations in this notice.

Abstract of Information Available

A total of two cultural item lots have been requested for repatriation. The two objects of cultural patrimony are one lot of pestles and one lot of mortars. These two lots of cultural items (FAMSF Accession 51890) were removed at some point, before 1924, from Folsom, CA. These cultural items were gifted to FAMSF by Mr. Raymer W. Hayes in memory of Colonel John F. Hayes in 1924. In 1964, FAMSF loaned part of one lot to the East Bay Regional Parks District. In 2019, East Bay Regional Parks returned one item to FAMSF. There is no documentation of the presence of any potentially hazardous substances used to treat any of the cultural items.

Determinations

FAMSF has determined that:

• Two lots of objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Shingle Springs Band of Miwok Indians, Shingle Springs Rancheria (Verona Tract), California; United Auburn Indian Community of the Auburn Rancheria of California; and the Wilton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 17, 2025. If competing requests for repatriation are received, FAMSF must determine the most appropriate requestor prior to repatriation. Requests for joint repatriation of the cultural items are considered a single request and not competing requests. FAMSF is responsible for sending a copy of this notice to the Indian Tribes and Native Hawaiian organizations identified in this notice and to any other consulting parties.

Authority: Native American Graves Protection and Repatriation Act, 25 U.S.C. 3004 and the implementing regulations, 43 CFR 10.9.

Dated: June 11, 2025.
Melanie O'Brien,
Manager, National NAGPRA Program.

[FR Doc. 2025-11137 Filed 6-16-25; 8:45 am]

BILLING CODE 4312-52-P